DEPARTMENT OF THE INTERIOR

Fish and Wildlife Service

50 CFR Part 17

RIN 1018-AG28

Endangered and Threatened Wildlife and Plants; Notice of Availability of Draft Economic Analysis for Proposed Critical Habitat Determination for the Zayante Band-winged Grasshopper

AGENCY: Fish and Wildlife Service, Interior.

ACTION: Notice of availability of draft economic analysis.

SUMMARY: The U.S. Fish and Wildlife Service (Service) announces the availability of a draft economic analysis for the proposed designation of critical habitat for the Zayante band-winged grasshopper (Trimerotropis infantilis). We are opening a 15-day comment period to allow all interested parties to submit written comments on the draft economic analysis. Comments submitted during this comment period will be incorporated into the public record and will be fully considered in the final rule.

DATES: The comment period is opened and we will accept comments until December 21, 2000. Comments must be received by 5 p.m. on the closing date. Any comments that are received after the closing date may not be considered in the final decision on this proposal.

ADDRESSES: Copies of the draft economic analysis are available on the Internet at “www.r1.fws.gov” or by writing to the Field Supervisor, U.S. Fish and Wildlife Service, Ventura Fish and Wildlife Office, 2493 Portola Road, Suite B, Ventura, California 93003. All written comments should be sent to the Field Supervisor at the above address. You may also send comments by electronic mail (e-mail) to “fw1grasshopper@r1.fws.gov.” Please submit electronic comments in ASCII file format and avoid the use of special characters and encryption. Please include “Attn: RIN 1018-AG27” and your name and return address in your e-mail message. If you do not receive a confirmation from the system that we have received your e-mail message, contact us directly by calling our Ventura Fish and Wildlife Office at phone number 805-644-1766. Comments and materials received will be available for public inspection, by appointment, during normal business hours at the above Service address.

FOR FURTHER INFORMATION CONTACT: Field Supervisor, Ventura Fish and Wildlife Office, at the above address (telephone 805-644-1766; facsimile 805-644-3958).

SUPPLEMENTARY INFORMATION:

Background

The Zayante band-winged grasshopper (Trimerotropis infantilis) was first described from near Mount Hermon in the Santa Cruz Mountains, Santa Cruz County, California, in 1984 (Rentz and Weissman 1984). The grasshopper is in the Order Orthoptera and Family Acrididae.

The body and forewings of the Zayante band-winged grasshopper are pale gray to light brown with dark cross-bands on the forewings. The basal area of the hindwings is pale yellow with a faint thin band. The hind tibiae (lower legs) are blue, and the eyes have bands around them. Males range in length from 13.7 to 17.2 millimeters (0.54 to 0.68 inches); females are larger, ranging in length from 19.7 to 21.6 millimeters (0.78 to 0.85 inches) (Otte 1984; Rentz and Weissman 1984).

The Zayante band-winged grasshopper occurs in association with the Zayante series soils in the vicinity of Ben Lomond, Felton, Mount Hermon, Zayante, and Scotts Valley in Santa Cruz County, California. These soils harbor a complex mosaic of vegetation dominated by maritime coast range ponderosa pine forest and northern maritime chaparral (Griffin 1964; Holland 1986). The distributions of these two vegetative communities overlap to form a complex and intergrading mosaic of communities variously referred to as ponderosa sand parkland, ponderosa pine sand hills, and silver-leafed manzanita mixed chaparral. These communities are collectively referred to as “Zayante sand hills” and harbor a diversity of rare and endemic plant and animal species, including the Zayante band-winged grasshopper (Thomas 1961; Griffin 1964; Morgan 1983). A unique habitat within the Zayante sand hills is sand parkland, characterized by sparsely vegetated, sandstone dominated ridges and saddles that support scattered ponderosa pines and a wide array of annual and perennial herbs and grasses.

Within the Zayante sandhills, the Zayante band-winged grasshopper occurs primarily in early successional sand parkland with widely scattered tree and shrub cover, extensive areas of bare or sparsely vegetated ground, loose sand, and relatively flat relief. In addition, Zayante band-winged grasshoppers have been observed in areas with a well-developed ground cover and in areas with sparse chaparral mixed with patches of grasses and forbs (Hovore 1996; Arnold 1999a,b).

The primary threat to the Zayante band-winged grasshopper is loss of habitat. Over 40 percent of Zayante sand hills, and 60 percent of the sand parkland within that habitat, is estimated to have been lost or altered due to human activities, including sand mining, urban development, recreational activities and agriculture (R. Morgan, private consultant, pers. comm. 1992; Marangio and Morgan 1987; Lee 1994). Approximately 200 to 240 hectares (ha) (500 to 600 acres(ac)) of sand parkland existed historically (Marangio and Morgan 1987). By 1986, only 100 ha (250 ac) of sand parkland remained intact (Marangio and Morgan 1987). By 1992, sand parkland was reportedly reduced to only 40 ha (100 ac) (R. Morgan, pers. comm. 1992). A more recent assessment revised that estimate up to 78 ha (193 ac), largely because of identification and inclusion of additional lower quality sand parkland (Lee 1994).

The disruption of natural landscape-level processes may also be resulting in shifts in vegetative communities and loss of habitat for the Zayante band-winged grasshopper. For example, lack of fire is resulting in the encroachment of mixed evergreen forest into ponderosa pine forest (Marangio 1985). Lack of sunlight as a result of shading by Ponderosa pines appears to be restricting use of areas by the Zayante band-winged grasshopper and resulting in low population numbers (C. Sculley, USFWS, pers. observation 1999). Historically, fires would have burned in these areas resulting in the loss of Ponderosa pines and the creation of areas with increased exposure to sunlight. Non-native species of vegetation, including Portuguese broom (Cystisus striatus) and sea fig (Carpobrotus chilensis) are out-competing native vegetation and encroaching on sites occupied by the Zayante band-winged grasshopper (Rigney 1999). Pesticides and over-collection are also recognized as potential threat to the Zayante band-winged grasshopper.

Pursuant to the Endangered Species Act of 1973, as amended (Act), the species was federally listed as endangered on January 24, 1997 (62 FR 3616). On July 7, 2000, we published in the Federal Register (65 FR 41919) a determination proposing critical habitat for the Zayante band-winged grasshopper. Approximately 4,230 hectares (10,560 acres) fall within the boundaries of the proposed critical habitat designation. Proposed critical habitat is located in Santa Cruz County, as described in the proposed determination.

Section 4(b)(2) of the Act requires that the Secretary shall designate or revise critical habitat based upon the best scientific and commercial data available and after taking into consideration the economic impact of specifying any particular area as critical habitat. Based upon the previously published proposal to designate critical habitat for the Zayante band-winged grasshopper and comments received during the previous comment period, we have prepared a draft economic analysis of the proposed critical habitat designation. The draft economic analysis is available at the above Internet and mailing address. We will accept written comments during this reopened comment period. The current comment period on this proposal closes on December 21, 2000. Written comments may be submitted to the Ventura Fish and Wildlife Office in the ADDRESSES section.

Author

The primary author of this notice is Colleen Sculley, U.S. Fish and Wildlife Service, 2493 Portola Road, Suite B, Ventura, California 93003 (see ADDRESSES section).

Authority: The authority for this action is the Endangered Species Act of 1973 (16 U.S.C. 1531 et seq.).

Dated: November 29, 2000.
Dennis D. Peters,
Acting Manager, California/Nevada Operations Office.

[FR Doc. 00-31007 Filed 12-5-00; 8:45 am]

BILLING CODE 4310-55-P